DEPARTMENT OF DEFENSE

Office of the Secretary

[Transmittal No. 16-50]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Chandelle K. Parker, DSCA/OGC, (703) 697-9027.

The following is a copy of a letter to the Speaker of the House of Representatives, Transmittal 16-50 with attached Policy Justification and Sensitivity of Technology.

Dated: August 18, 2016.
Aaron Siegel,
Alternate OSD Federal Register Liaison Officer, Department of Defense.

BILLING CODE 5001-06-P

BILLING CODE 5001-06-C

Transmittal No. 16-50

Notice of Proposed Issuance of Letter of Offer Pursuant to Section 36(b)(l) of the Arms Export Control Act, as amended

(i) Prospective Purchaser: Government of Argentina

(ii) Total Estimated Value:

Major Defense Equipment * | $196 million
Other | $104 million
TOTAL | $300 million

(iii) Description and Quantity or Quantities of Articles or Services under Consideration for Purchase:

Major Defense Equipment (MDE): Twenty-four (24) T-6C+ Texan trainer aircraft

Non-Major Defense Equipment (MDE): This request includes the following Non-MDE: Spare engines, initial spare parts, support equipment, communications equipment, studies and surveys, contract logistics support and technical services, aircraft technical publications, aircraft ferry and support, life support equipment, initial maintenance training, initial pilot training, follow-on training, alternate mission equipment, Air Force Materiel Command services and travel, unclassified minor modifications and engineering change proposals, ground-based training system, operational flight trainer (OFT) and OFT spare parts.

(iv) Military Department: Air Force (AR-D-SAI)

(v) Prior Related Cases, if any: None

(vi) Sales Commission, Fee, etc., Paid, Offered, or Agreed to be Paid: None

(vii) Sensitivity of Technology Contained in the Defense Article or Defense Services Proposed to be Sold: See Attached annex.

(viii) Date Report Delivered to Congress: 15 JULY 2016

* as defined in Section 47(6) of the Arms Export Control Act.

POLICY JUSTIFICATION

Argentina—T-6C+ Texan aircraft

The Government of Argentina has requested a possible sale of twenty-four (24) T-6C+ Texan trainer aircraft, spare engines, initial spare parts, support equipment, communications equipment, studies and surveys, contract logistics support and technical services, aircraft technical publications, aircraft ferry and support, life support equipment, initial maintenance training, initial pilot training, follow-on training, alternate mission equipment, Air Force Materiel Command services and travel, unclassified minor modifications and engineering change proposals, ground-based training system, operational flight trainer (OFT) and OFT spare parts. The estimated value is $300 million.

This proposed sale will contribute to the foreign policy and national security of the United States by helping to improve the security of a major non-NATO ally. This potential sale will provide additional opportunities for bilateral engagements and further strengthen the bilateral relationship between the United States and Argentina.

The Argentine military has embarked on an ambitious path toward modernizing its military materiel. The proposed sale will revitalize Argentina's capability to train its pilots and fulfill border control missions, especially along its porous northern border. The Argentine Air Force (AAF) will use the enhanced capability to redevelop a professional pilot corps and as a deterrent to illicit activity. The AAF is very experienced working with the Pratt & Whitney PT6 family of engines which they currently have on their T-34, King Air, and Cessna Caravan aircraft. Given the logistical commonalities with the aircraft already in its fleet, the AAF will be able to support and field the new T-6C+s.

The proposed sale of this equipment and support will not alter the basic military balance in the region.

The prime contractor will be Beechcraft Defense Company, LLC, of Wichita, Kansas. The purchaser requested offsets. At this time, agreements are undetermined and will be defined in negotiations between the purchaser and contractor.

Implementation of this proposed sale will not require the assignment of any additional U.S. Government or contractor representatives to Argentina. The AAF plan is to initially train a cadre of mechanics in in the United States, then a larger group in country via military training teams.

There will be no adverse impact on U.S. defense readiness as a result of this proposed sale.

Transmittal No. 16-50

Notice of Proposed Issuance of Letter of Offer Pursuant to Section 36(b)(1) of the Arms Export Control Act

Annex

Item No. vii

(vii) Sensitivity of Technology:

1. The T-6C+ is a single engine turboprop trainer aircraft modified with an embedded virtual weapons training, simulation, and no-drop scoring capability, and is UNCLASSIFIED. The simulation and scoring capability is primarily designed to teach air-to-ground operations. The T-6C+ also includes the capability to carry mounted external fuel tanks and employ lightweight training weapons.

2. All defense articles and services listed in this transmittal have been authorized for release and export to the Government of Argentina.

[FR Doc. 2016-20104 Filed 8-22-16; 8:45 am]

BILLING CODE 5001-06-P